DEPARTMENT OF COMMERCE

National Telecommunications and Information Administration

[Docket Number 981203295-1272-06; CFDA: 11.552]

RIN 0660-ZA06

Technology Opportunities Program

AGENCY: National Telecommunications and Information Administration, Commerce.

ACTION: Notice of solicitation of grant applications.

SUMMARY: The National Telecommunications and Information Administration (NTIA) issues this Notice describing the conditions under which applications will be received by the Technology Opportunities Program (TOP) and how NTIA will select applications for funding, subject to the availability of Fiscal Year 2002 funds.

The Bush Administration believes that new technologies and the deployment of high-speed networks are crucial to promoting America's economic growth and our nation's social well-being. The TOP program can play an important role in extending those priorities to underserved communities, through matching grants to state, local, and tribal governments and non-profit entities that demonstrate innovative uses of digital network technologies. TOP projects address specific challenges and realize opportunities for change in such areas as lifelong learning, community and economic development, government and public services, safety, health, culture, and the arts.

DATES: Complete applications for the Fiscal Year 2002 TOP grant program must be mailed or hand-carried to the address indicated below and received by NTIA no later than 8:00 P.M. EST, March 21, 2002. NTIA anticipates the processing and selection of applications for funding will require 6 months. NTIA expects to announce FY 2002 awards prior to September 30, 2002.

ADDRESSES: Completed applications must be mailed, shipped, or sent overnight express to:

Technology Opportunities Program

National Telecommunications and Information Administration

U.S. Department of Commerce

1401 Constitution Avenue, NW

HCHB, Room 4092

Washington, DC 20230

or hand-delivered to:

Technology Opportunities Program

National Telecommunications and Information Administration

U.S. Department of Commerce

HCHB, Room 1874

1401 Constitution Avenue, NW

Washington, DC 20230

Room 1874 is located at entrance #10 on 15th Street NW, between Pennsylvania and Constitution Avenues.

Materials needed to complete an application can be obtained electronically via TOP's Web site at http://www.ntia.doc.gov/top or by contacting the TOP office at 202-482-2048.

FOR FURTHER INFORMATION CONTACT: Stephen J. Downs, Director of the Technology Opportunities Program. Telephone: 202-482-2048; fax: 202-501-5136; e-mail: top@ntia.doc.gov.

SUPPLEMENTARY INFORMATION:

Authority: NTIA issues this Notice subject to the appropriations made available under continuing resolution (Public Law 107-70). NTIA anticipates making grant awards provided that funding for TOP is continued beyond December 7, 2001, the expiration date of the current continuing resolution.

Eligible Organizations

All non-profit entities (including, but not limited to, faith-based organizations, national organizations and associations, non-profit community-based organizations, non-profit health care providers, schools, libraries, museums, colleges, universities, public safety providers) and state, local, and tribal governments are eligible to apply.

Although individuals and for-profit organizations are not eligible to apply, they are encouraged to participate as project partners.

Funding Availability

Issuance of grants is subject to the availability of FY 2002 funds. Based on the status of relevant appropriations legislation, NTIA expects to have approximately $12.5 million available for new grants. Further notice will be made in the Federal Register and the TOP web site of the final status of funding for this program at the appropriate time.

Based on past experience, NTIA expects this year's grant round to be very competitive. In Fiscal Year 2001, NTIA received over 660 applications collectively requesting more than $367 million in federal funds. From these applications, the Department of Commerce announced 74 awards totaling $42.8 million in federal funds.

Award Amount

An applicant may request up to a total of $750,000 in funds from NTIA. TOP expects the federal amounts awarded to range from $200,000 to $750,000, with an average of approximately $500,000. The amount awarded covers the duration of the project.

Matching Funds Requirements

Grant recipients under this program will be required to provide matching funds toward the total project cost. Applicants must document their capacity to provide matching funds. Matching funds may be in the form of cash or in-kind contributions. NTIA will provide up to 50 percent of the total project cost, unless the applicant can document extraordinary circumstances warranting a grant of up to 75 percent. Grant funds under this program are usually released in direct proportion to local matching funds utilized and documented as having been expended.

Generally, federal funds may not be used as matching funds, except as provided by federal statute. If you plan to use funds from a federal agency as matching funds, you should contact the federal agency that administers the funds in question and obtain documentation from that agency's Office of General Counsel to support the use of federal funds for matching purposes.

Completeness of Application

TOP will initially review all applications to determine whether all required elements are present and clearly identifiable. The required elements are listed and described in the Guidelines for Preparing Applications'Fiscal Year 2002. Details on how to access the Guidelines for Preparing Applications'Fiscal Year 2002, are available in the section “Other Information” in this Notice. Each of the required elements must be present and clearly identified. Failure to do so may result in rejection of the application. For details on how to obtain materials needed to complete an application, see “Addresses” in this Notice.

Application Deadline

As noted above, complete applications for the Fiscal Year 2002 TOP grant program must be received by NTIA no later than 8 P.M. EST, March 21, 2002. A postmark date is not sufficient. Applications which have been provided to a delivery service on or before March 20, 2002, with “delivery guaranteed” before 8:00 P.M. on March 21, 2002, will be accepted for review if the applicant can document that the application was provided to the delivery service with delivery to the address listed above guaranteed prior to the closing date and time. Applications will not be accepted via facsimile machine transmission or electronic mail.

NTIA anticipates that it will take approximately six months to complete the review of applications and make final funding decisions.

Program Funding Priorities

Through TOP, NTIA provides underserved communities with opportunities to explore the possibilities that emerging digital network technologies offer to solve critical challenges in such areas as lifelong learning, community and economic development, government and public services, safety, health, culture, and the arts.¹

¹ “Underserved” refers to various groups of people and geographic communities that face technological, economic, physical, linguistic, or cultural barriers that limit access to the benefits of digital network technologies.

TOP projects demonstrate creative uses of digital network technologies to address pressing needs in the public and non-profit sectors. Therefore, TOP expects each applicant to present a clear vision and a workable plan to apply digital network technologies to address specific challenges in their communities. Rather than simply requesting funds to build capacity or upgrade existing equipment, each application should describe a project that pinpoints specific problems, proposes creative solutions, and postulates measurable outcomes.

As a national program, TOP emphasizes innovation, learning, and diffusion of new ideas and practical knowledge. Each TOP-supported project must be innovative in the sense that it represents a departure from how other communities and groups across the country are using digital network technologies to overcome obstacles. Each TOP project should yield new insights into how best to use these technologies and offer opportunities to learn what works well and what does not. Because these grants will serve as national models for other communities, NTIA expects each project to include provisions for thorough evaluations that will provide valid and reliable data as well as valuable lessons learned to be shared with others interested in the project.

All funded projects must be interactive in that they allow end users to share information with each other or gain access to information on an on-demand basis, as opposed to a one-way or broadcast basis.² TOP-supported projects must also involve communication and new partnerships among multiple unaffiliated organizations or enable direct, interactive communication between an organization and the public it serves.

For the FY 2002 grant competition, TOP is interested in projects that involve:

² An “end user” is an individual who directly utilizes the network technology.

• Broadband technologies that bring very high-speed communications directly to end users;

• Mobile wireless communication technologies that offer end users greater flexibility in how, where, and when they access information;

• Empowering end users to move beyond passive information consumption to become valued contributors to the development, use, and expansion of shared information resources; ³ and

³ For example, once isolated communities now use Internet technology to collect and express their histories; children have become agents of community change as they have used network technology to collect information, provide analysis, and contribute to the public policy dialogue in their communities; and citizens are exploring the creation of databases which enrich the resources made available by local and state governments.

• Emerging data sharing techniques that facilitate the seamless and secure exchange of information across organizational boundaries.

In previous fiscal years, NTIA supported planning projects. The emphasis for Fiscal Year 2002 is on projects that deploy, use, and evaluate digital network technologies. NTIA will, however, support projects that incorporate some planning activities as part of the proposed project.

Limitations on Project Scope

Each TOP project is expected to include a range of activities that support project development, implementation, and evaluation. However, TOP will not support projects whose primary purpose is to develop network infrastructure, to create hardware or software, to provide training on the use of the network technologies, or to build voice-based systems. Details on these restrictions are discussed below.

(1) Infrastructure Development Projects. Every TOP applicant is expected to create a project that describes and provides funding for specific applications of digital network technologies to address important community challenges. Therefore, TOP will not support projects whose primary purpose is to create telecommunications or network infrastructure without significant dedication of resources to specific applications of that infrastructure.

(2) Hardware or Software Development Projects. Some projects may require limited software development or the customization or modification of existing software or hardware in order to meet particular end-user requirements or to enable the exchange of information across networks. However, the creation of a software or hardware product cannot be a project's primary purpose.

(3) Training Projects. While TOP does consider training to be an essential aspect of most projects, TOP will not support projects whose primary purpose is to provide training in the use of software applications, Internet use, or other use of network technologies.

(4) Voice-based Systems. Two-way, interactive voice networks are an important element of the existing network systems. Voice as a means for conveying information and voice input tools play critical roles in ensuring people with disabilities have access to network technology. However, TOP will not support projects whose primary purpose is to either build or install voice-based communication networks such as call centers, two-way radio networks, enhanced-911 and 311 systems, or 800 MHZ radio systems.

Review Criteria

Reviewers will analyze and rate each application using the following criteria. The relative weights of each criterion are identified in parentheses.

1. Project Purpose (20%)

Each application should describe a clearly defined project that focuses on underserved communities. In this criterion, reviewers will judge each application on (1) the overall design of the project and (2) the degree to which it provides opportunities for underserved communities.

In assessing the project design, reviewers will examine the degree to which the applicant clearly: (1) Defines the problem(s) within the community to be served and describes its severity; (2) proposes creative and practical means of addressing the community's problem(s) through specific applications of digital network technologies; and (3) identifies anticipated outcomes and that are both realistic and measurable. Reviewers will also assess the degree to which an applicant convincingly links the three major elements—problem(s), solution(s), and outcome(s).

Reviewers will assess the degree to which the project targets underserved communities and populations, and the degree to which the proposed project will address the circumstances and challenges (such as poverty, low literacy, disabilities, high unemployment, low educational achievement, high crime rate, poor health status, etc.) they face.

2. Innovation (20%)

Reviewers will assess innovation by examining both the technology to be used and the application of technology in a particular setting, to serve a particular population, or to solve a particular problem. TOP defines innovation broadly. For example, projects that involve imaginative partnerships, the introduction of new business processes designed to offer more effective services, untested strategies for overcoming access barriers, or new techniques that transform inter-organizational relationships can all be considered innovative. TOP encourages applicants to experiment with leading edge technologies. It is, however, the creativity behind the application of the technology to meet community needs that ultimately determines the level of innovation.

Using their experience in their respective fields, reviewers will examine each project in a national context and evaluate how an application compares with, complements, and improves on what is known about using digital network technology as a solution to problems in its particular field.

3. Diffusion Potential (20%)

The innovations and approaches to be demonstrated in any proposed project should contain the potential to be diffused broadly throughout the country. NTIA expects that each awarded project will serve as a model for other communities to follow.

To assess this potential for diffusion, reviewers will consider five factors:

(1) The degree to which the problem identified by the applicant is common to many communities;

(2) The relative advantage of the project's innovations over established approaches to addressing the specified problems;

(3) The ease of replication and adaptation, based on considerations such as cost and complexity;

(4) The applicant's plans and budget resources dedicated to disseminate actively the knowledge gained from the project's successes and failures; and

(5) The capability and experience of an applicant or their partner organizations to reach communities across the country and disseminate their findings.

4. Project Feasibility (15%)

In assessing the feasibility of each application, reviewers will focus on six issues: the technical approach, the qualifications of the project staff, the proposed budget, the implementation schedule, plans for protecting privacy, and the applicant's plan for sustaining the project beyond the grant period.

(1) In assessing the technical approach, reviewers will examine the degree to which the proposed system would work and operate with other systems; technological alternatives that have been considered; designs for system maintenance and periodic upgrades; and plans for project expansion. Applicants are expected to make use of existing infrastructure and commercially available telecommunications services, unless extraordinary circumstances require the construction of new network facilities.

(2) In assessing the qualifications of the project team, reviewers will assess the applicant and its partners to determine if they have the resources, expertise, and experience necessary to undertake, evaluate, and complete the project and disseminate results within the proposed period.

(3) Reviewers will analyze the budget in terms of clarity and cost-effectiveness. The proposed budget should be appropriate to the tasks proposed and sufficiently detailed so that reviewers can easily understand the relationship of items in the budget to the project narrative.

(4) Reviewers also will assess the degree to which the implementation process is comprehensive, reasonable, and can be completed in the proposed time frame.

(5) Reviewers will evaluate the applicant's plans to safeguard the privacy of the project's end users and others affected by the project.

(6) Finally, reviewers will examine the applicant's strategies to sustain the project after the completion of the grant.

5. Community Involvement (15%)

Each application will be rated on the overall level and breadth of community involvement in the development and implementation of the proposed project. Reviewers will:

(1) Analyze the applicant's partnerships to ensure that they include linkages among unaffiliated organizations (from the public, non-profit, or private sectors) as an ongoing and integral part of project planning and implementation. TOP considers partners to be organizations that supply cash or in-kind resources and/or play an active role in the planning and implementation of the project;

(2) Examine the steps the applicant has taken to include and sustain the involvement of a variety of community stakeholders. Reviewers will look for evidence of demand, from the community, the end users, and the potential beneficiaries, for the services proposed by the project; and

(3) Consider the degree of attention paid to the needs, skills, working conditions, and living environments of the targeted end users. Reviewers will consider the extent to which applicants involve representatives from a broad range of potential users in both the design and implementation of the project and consider the varying degrees of abilities of all end users, including individuals with disabilities. Reviewers will also assess the degree to which the project addresses barriers which limit a community's or a group's access to digital network technologies. Finally, reviewers will assess the applicant's plans for training end users and upgrading their skills.

6. Evaluation (10%)

Each application will be rated on its proposed plans for evaluating the project. Reviewers will assess the extent to which the applicant's research or evaluation design: (1) Provides for continuous feedback for project planning, implementation, review and revision; (2) addresses the problems, solutions, and anticipated outcomes described in the project purpose and yields valid and reliable findings; (3) captures lessons learned and sufficient descriptive data so that others may easily adapt and replicate the project; and (4) meets TOP's requirements for an independent evaluation as described in the “Reporting Requirements” section of Notice.

In assessing evaluation, reviewers will examine:

(1) The research design and methodology;

(2) Evaluation questions, data collection, and data analysis plans;

(3) The qualifications of any staff or external evaluators working on the evaluation; and

(4) The allocation of resources for implementing the evaluation and reporting project findings.

Eligible Costs

Eligible Costs. Allowable costs incurred under approved projects shall be determined in accordance with applicable federal cost principles, i.e., OMB Circular A-21, A-87, A-122, or Appendix E of 45 CFR part 74. If included in the approved project budget, TOP will allow costs for personnel; fringe benefits; computer hardware, software, and other end-user equipment; telecommunication services and related equipment; consultants, evaluators, and other contractual items; travel; rental of office equipment, furniture, and space; and supplies. All costs must be reasonable and directly related to the project.

Indirect Costs. The total dollar amount of the indirect costs proposed in an application under this program must not exceed the indirect cost rate negotiated and approved by a cognizant federal agency.

Ineligible Costs

Costs associated with the construction or major renovation of buildings are not eligible. While costs for the construction of new network facilities are eligible, applicants are expected to make use of existing infrastructure and commercially available telecommunications services. Only under extraordinary circumstances will the construction of new network facilities be approved.

Costs for professional services are also ineligible. TOP defines professional services as activities delivered over a network that would otherwise be provided in a face-to-face setting such as teaching students, counseling clients, providing direct patient care, or interpreting services, etc. For example, if the project proposes to create a telemedicine network, the costs of setting up, maintaining, and evaluating the use of the network are eligible, but payment for the time or services of physicians or other health professionals providing care over the network is not an eligible cost.

Note that costs that are ineligible for TOP support may not be included as part of the applicant's matching fund contribution.

In addition, the restrictions on the use of grant funds defined in the Consolidated Appropriations Act for Fiscal Year 2001, Public Law 106-553 are still applicable. The act placed restrictions on eligible costs for applicants that are recipients of Universal Service Fund discounts and applicants receiving assistance from the Department of Justice's Regional Information Sharing Systems Program as part of the project costs. The statute provided:

That notwithstanding any other provision of law, no entity that receives telecommunications services at preferential rates under section 254(h) of the Act (47 U.S.C. 254(h)) or receives assistance under the regional information sharing systems grant program of the Department of Justice under part M of title I of the Omnibus Crime Control and Safe Streets Act of 1968 (42 U.S.C. 3796h) may use funds under a grant under this heading to cover any costs of the entity that would otherwise be covered by such preferential rates or such assistance, as the case may be.

Accordingly, recipients of the above-described preferential rates or assistance are prohibited from including any costs that would be covered by such preferential rates or assistance in their proposed TOP grant budget. More details on this restriction can be found in the Guidelines for Preparing Applications—Fiscal Year 2002.

NTIA will clarify this restriction through a Notice of Availability of Funds which will be released in the Federal Register and TOP's web site once a FY 2002 appropriations bill is signed into law.

Award Period

Successful applicants will have up to 36 months to complete their projects. While the completion time will vary depending on the complexity of the project, NTIA has found that most grant recipients require at least two years to complete and evaluate fully their projects. Accordingly, NTIA encourages applicants to propose projects that last two to three years.

Selection Process

The selection process will last approximately six months and involves four stages outlined below:

(1) During the first stage, each eligible application will be reviewed by a panel of outside readers, who have demonstrated expertise in both the programmatic and technological aspects of the application. The review panel members will evaluate applications according to the review criteria provided in this Notice and provide the ratings to the program staff. As discussed below, these ratings constitute one of the selection factors to be used by the TOP Director when preparing the slate of recommended grant awards.

(2) Upon completion of the external review process, program staff will analyze applications considered for award that will be based on the degree to which a proposed project meets the program's funding scope as described in the section entitled “Limitations on Project Scope;” the eligibility of costs and matching funds included in an application's budget; and the extent to which an application complements or duplicates projects previously funded or under consideration by NTIA or other federal programs.⁴

⁴ See discussion of “Eligible Costs” and “Matching Funds Requirements” in this Notice. Information on previously funded grants is available from the TOP. In the section “Other Information” of this Notice, details are available on how to access this information.

The TOP Director then prepares and presents a slate of recommended grant awards to the Office of Telecommunications and Information Applications' (OTIA) Associate Administrator for review and approval of the recommended slate.⁵ The Director's recommendations and the Associate Administrator's review and approval will take into account the following selection factors:

⁵ The Office of Telecommunication and Information Applications is the division of the National Telecommunications and Information Administration that supervises NTIA's grant awards programs.

1. The evaluations of the outside reviewers;

2. The analysis of program staff;

3. The degree to which the proposed grants meet the program's priorities as described in the section entitled “Program Funding Priorities;”

4. The geographic distribution of the proposed grant awards;

5. The variety of technologies and diversity of uses of the technologies employed by the proposed grant awards;

6. The provision of access to and use of digital network technologies by rural communities and other underserved groups;

7. Avoidance of redundancy and conflicts with the initiatives of other federal agencies; and,

8. The availability of funds.

(3) Upon approval by the OTIA Associate Administrator, the Director's recommendations will then be presented to the Selecting Official, the NTIA Administrator. The NTIA Administrator selects the applications to be negotiated for possible grant award taking into consideration the Director's recommendations and the degree to which the slate of applications, taken as a whole, satisfies the selection factors described above and the program's stated purposes as set forth in the section entitled “Program Funding Priorities.”

(4) After applications have been selected in this manner, negotiations will take place between TOP staff and the applicant. These negotiations are intended to resolve any differences that exist between the applicant's original request and what TOP proposes to fund, and if necessary, to clarify items in the application. Not all applicants who are contacted for negotiation will necessarily receive a TOP award. Final selections made by the Administrator will be based upon the recommendations by the Director and the OTIA Associate Administrator and the degree to which the slate of applications, taken as a whole, satisfies the program's stated purposes as set forth in the section entitled “Program Funding Priorities,” upon the conclusion of negotiations.

Use of Program Income

Applicants are advised that any program income generated by a proposed project is subject to special conditions. Anticipated program income must be documented appropriately in the project budget. In addition, should an application be funded, unanticipated program income must be reported to TOP, and the budget for the project must be renegotiated to reflect receipt of this program income. Program income means gross income earned by the recipient that is either directly generated by a supported activity, or earned as a result of the award. In addition, federal policy prohibits any recipient or subrecipient receiving federal funds from the use of equipment acquired with these funds to provide services to non-federal outside organizations for a fee that is less than private companies charge for equivalent services. This prohibition does not apply to services provided to outside organizations at no cost.

Policy on Sectarian Activities

Applicants are advised that on December 22, 1995, NTIA issued a notice in the Federal Register on its policy with regard to sectarian activities. Under NTIA's policy, while religious activities cannot be the essential thrust of a grant, an application will not be ineligible where sectarian activities are only incidental or attenuated to the overall project purpose for which funding is requested. Applicants for whom this policy may be relevant should read the policy that was published in the Federal Register at 60 FR 66491, Dec. 22, 1995.

Reporting Requirements

To ensure compliance with federal regulations and collect systemic evaluation data on each project, successful TOP applicants have a number of basic reporting requirements once they are awarded a grant. At project outset, TOP grantees provide detailed baseline information on the project objectives, goals, partners, and populations served. Each quarter, grantees provide financial reports and updates on project activities. At project completion, TOP grantees must also provide a closeout report.

Finally, because evaluation results play such a critical role in helping other organizations learn about what works well and what does not, each TOP-supported project will provide NTIA a final evaluation report. To ensure the validity of the findings, the final evaluation report must be completed by an independent evaluator or team of evaluators who are not in a direct reporting relationship with the applicant.⁶ TOP will make copies of the final evaluation report available to the public.

⁶ In large institutions, such as universities, colleges, and foundations, an independent evaluator can include a representative from departments not associated with the applicant. In addition, TOP's requirement for having a grantee have an independent evaluator develop the final evaluation report does not preclude an applicant from conducing the evaluation in conjunction with an independent evaluator.

Waiver Authority

It is the general intent of NTIA not to waive any of the provisions set forth in this Notice. However, under extraordinary circumstances and when it is in the best interest of the federal government, NTIA, upon its own initiative or when requested, may waive the provisions in this Notice. Waivers may only be granted for requirements that are discretionary and not mandated by statute. Any request for a waiver must set forth the extraordinary circumstances for the request and be included in the application or sent to the address provided in the Addresses section above. NTIA will not consider a request to waive the application deadline for an application until the application has been received.

Intergovernmental Review

Applications under this program are subject to Executive Order 12372, “Intergovernmental Review of Federal Programs.”

Other Information

Electronic Information. Information about NTIA and TOP, including this document and the Guidelines for Preparing Applications—Fiscal Year 2002, can be retrieved electronically via the Internet using the World Wide Web at http://www.ntia.doc.gov/top. This document can be provided in alternate formats, including braille. If you need assistance please contact TOP at 202-482-2048 or top@ntia.doc.gov.

In order to facilitate the diffusion of ideas generated by the grant round and opportunities for other potential funders to identify promising projects, TOP will provide a copy of each application's executive summary and contact information on its home page.

For FY 2002, applicants to the TOP will also be able to utilize the Internet to prepare their Standard Forms 424 and 424A and an executive summary. Through TOP's web site at http://www.ntia.doc.gov/top, applicants can access helpful guides and online tools with self calculating totals and pre-filled forms that will reduce the time it takes to prepare the application forms. These tools are optional and not required to prepare an application.

Please note that applicants must submit all application materials (even those forms prepared online) in hard copy with appropriate signatures as specified in the Application Deadline section of this Notice.

Submission Requirements. TOP requests one original and five copies of the application. Applicants for whom the submission of five copies presents financial hardship may submit one original and two copies of the application. In addition, all applicants are required to submit a copy of their application to their state Single Point of Contact (SPOC) offices, if they have one. For information on contacting state SPOC offices, refer to the Guidelines for Preparing Applications—Fiscal Year 2002.

Disposition of Unsuccessful Applications. Applications accepted for review for the Fiscal Year 2002 grant round will be stored at the Department of Commerce until the start of the next grant competition or one year, whichever period is longer. At the end of that period, the applications will be destroyed.

Sensitive Information. Because of the high level of public interest in projects supported by TOP, the program anticipates receiving requests for copies of successful applications. Applicants are hereby notified that the applications they submit are subject to the Freedom of Information Act. To assist NTIA in making disclosure determinations, applicants may identify sensitive information and label it “confidential.”

Human Subject Research Protections. The Department of Commerce, through Part 27 of Title 15 of the Code of Federal Regulations, requires that all applications awarded under the TOP ensure protections for any human subjects involved in research.

For each application that involves human subject research, applicants should clearly indicate in the evaluation section of the application that:

(1) The project involves human subjects research, but the research will likely be eligible for an exemption from Institutional Review Board approval, or

(2) The project involves human subjects research, and you either have or will seek approval of the research from an Institutional Review Board.

If an application is considered for funding, the grant applicant will be asked to submit appropriate documentation of IRB approval or exemption status to the Federal Program Officer for approval by Department officials. More details on human subject research protections are available through the TOP's Web site at http://www.ntia.doc.gov/top and the Guidelines for Preparing Applications—Fiscal Year 2002.

Grant Requirements. The Department of Commerce Pre-Award Notification Requirements for Grants and Cooperative Agreements contained in the Federal Register notice of October 1, 2001 (66 FR 49917), are applicable to this solicitation.

Other Requirements. It has been determined that this Notice is not significant for purposes of Executive Order 12866.

Because notice and comment are not required under 5 U.S.C. 553, or any other law, for notices relating to public property, loans, grants, benefits or contracts (5 U.S.C. 553(a)), a Regulatory Flexibility Analysis is not required and has not been prepared for this Notice, 5 U.S.C. 601 et seq.

It has been determined that this Notice does not contain policies with Federalism implications as that term is defined in Executive Order 13132.

This document contains collection-of-information requirements subject to the Paperwork Reduction Act (PRA). The use of Standard Forms 424, 424A, 424B, and SF-LLL have been approved by OMB under the respective control numbers 0348-0043, 0348-0044, 0348-0040, and 0348-0046.

Notwithstanding any other provision of law, no person is required to respond to, nor shall any person be subject to a penalty for failure to comply with, a collection of information subject to the Paperwork Reduction Act, unless that collection displays a currently valid OMB control number.

Nancy J. Victory,
Assistant Secretary for Communications and Information.

[FR Doc. 01-30172 Filed 12-5-01; 8:45 am]

BILLING CODE 3510-60-P